DEPARTMENT OF THE INTERIOR

National Park Service

[NPS-WASO-NAGPRA-NPS0038010; PPWOCRADN0-PCU00RP14.R50000]

Notice of Inventory Completion: University of Southern California, Los Angeles, CA

AGENCY: National Park Service, Interior.

ACTION: Notice.

SUMMARY: In accordance with the Native American Graves Protection and Repatriation Act (NAGPRA), the University of Southern California (U.S.C.) has completed an inventory of human remains and has determined that there is a cultural affiliation between the human remains and Indian Tribes or Native Hawaiian organizations in this notice.

DATES: Repatriation of the human remains in this notice may occur on or after July 3, 2024.

ADDRESSES: Bethany Montagano, University of Southern California, 3551 Trousdale Parkway, Suite 102, Los Angeles, CA 90089, telephone (626) 787-2696, email bethany.montagano@pam.usc.edu.

SUPPLEMENTARY INFORMATION: This notice is published as part of the National Park Service's administrative responsibilities under NAGPRA. The determinations in this notice are the sole responsibility of U.S.C., and additional information on the determinations in this notice, including the results of consultation, can be found in the inventory or related records. The National Park Service is not responsible for the determinations in this notice.

Abstract of Information Available

Based on the information available, human remains representing, at least, one individual have been reasonably identified. On an unknown date, the individual was likely removed from an area east of The Dalles, Oregon or eastern Washington along the Columbia River. The individual was then housed at a museum at Northwestern University. When the museum was dismantled, a faculty member at the School of Medicine gave this individual to a colleague, Dr. Mikel Snow, at the University of Miami School of Medicine, between 1973 to 1975. The individual traveled with Dr. Snow to the U.S.C. campus and was housed in their office until May 2022, when the individual was identified during a campus-wide collections review. U.S.C. has no knowledge of any potentially hazardous substances used to treat the individual. No associated funerary objects are present.

Cultural Affiliation

Based on the information available and the results of consultation, cultural affiliation is clearly identified by the information available about the human remains described in this notice.

Determinations

U.S.C. has determined that:

• The human remains described in this notice represent the physical remains of one individual of Native American ancestry.

• There is a reasonable connection between the human remains described in this notice and the Confederated Tribes and Bands of the Yakama Nation; Confederated Tribes of the Umatilla Indian Reservation; Confederated Tribes of the Warm Springs Reservation of Oregon; and the Nez Perce Tribe.

Requests for Repatriation

Written requests for repatriation of the human remains in this notice must be sent to the authorized representative identified in this notice under ADDRESSES. Requests for repatriation may be submitted by:

1. Any one or more of the Indian Tribes or Native Hawaiian organizations identified in this notice and, if joined to a request from one or more of the Indian Tribes, the Wanapum Band of Priest Rapids, a non-federally recognized Indian group.

2. Any lineal descendant, Indian Tribe, or Native Hawaiian organization not identified in this notice who shows, by a preponderance of the evidence, that the requestor is a lineal descendant or an Indian Tribe or Native Hawaiian organization with cultural affiliation.

Repatriation of the human remains in this notice to a requestor may occur on or after July 3, 2024. If competing requests for repatriation are received, U.S.C. must determine the most appropriate requestor prior to repatriation. Requests for joint repatriation of the human remains are considered a single request and not competing requests. U.S.C. is responsible for sending a copy of this notice to the Indian Tribes and Native Hawaiian organizations identified in this notice.

Authority: Native American Graves Protection and Repatriation Act, 25 U.S.C. 3003, and the implementing regulations, 43 CFR 10.10.

Dated: May 22, 2024.
Melanie O'Brien,
Manager, National NAGPRA Program.

[FR Doc. 2024-12070 Filed 5-31-24; 8:45 am]

BILLING CODE 4312-52-P